INTERNATIONAL TRADE COMMISSION

[USITC SE-09-005]

Government in the Sunshine Act Meeting Notice

Agency Holding the Meeting: United States International Trade Commission.

Time and Date: March 11, 2009 at 11 a.m.

Place: Room 101, 500 E Street, SW., Washington, DC 20436, Telephone: (202) 205-2000.

Status: Open to the public.

Matters To Be Considered: 1. Agenda for future meetings: None.

2. Minutes.

3. Ratification list.

4. Inv. Nos. 701-TA-460 and 461 (Preliminary) (Ni-Resist Pistons Inserts From Argentina and Korea)—briefing and vote. (The Commission is currently scheduled to transmit its determinations to the Secretary of Commerce on or before March 12, 2009; Commissioners' opinions are currently scheduled to be transmitted to the Secretary of Commerce on or before March 19, 2009.)

5. Outstanding action jackets: None.

In accordance with Commission policy, subject matter listed above, not disposed of at the scheduled meeting, may be carried over to the agenda of the following meeting.

Issued: February 26, 2009.
By order of the Commission.
William R. Bishop,
Hearings and Meetings Coordinator.

[FR Doc. E9-4524 Filed 3-3-09; 8:45 am]

BILLING CODE 7020-02-P